DEPARTMENT OF ENERGY

Federal Energy Regulatory Commission

Combined Notice of Filings #1

Take notice that the Commission received the following exempt wholesale generator filings:

Docket Numbers: EG21-217-000.

Applicants: Delilah Solar Energy LLC.

Description: Notice of Self-Certification of Exempt Wholesale Generator Status of Delilah Solar Energy LLC.

Filed Date: 8/13/21.

Accession Number: 20210813-5030.

Comment Date: 5 p.m. ET 9/3/21.

Docket Numbers: EG21-218-000.

Applicants: E. BarreCo Corp LLC.

Description: Notice of Self-Certification of Exempt Wholesale Generator Status of E. BarreCo Corp LLC.

Filed Date: 8/13/21.

Accession Number: 20210813-5051.

Comment Date: 5 p.m. ET 9/3/21.

Docket Numbers: EG21-219-000.

Applicants: Lick Creek Solar, LLC.

Description: Self-Certification of EG or FC of Lick Creek Solar, LLC.

Filed Date: 8/13/21.

Accession Number: 20210813-5150.

Comment Date: 5 p.m. ET 9/3/21.

Take notice that the Commission received the following electric rate filings:

Docket Numbers: ER20-1734-002.

Applicants: Alabama Power Company.

Description: Compliance filing: Order No. 864 OATT Second Deficiency Response Filing to be effective N/A.

Filed Date: 8/13/21.

Accession Number: 20210813-5153.

Comment Date: 5 p.m. ET 9/3/21.

Docket Numbers: ER21-1858-002.

Applicants: Northern States Power Company, a Minnesota corporation.

Description: Tariff Amendment: CAPX2020-BRKGS-OMA-537-Supp Filing-0.1.2 to be effective 10/12/2021.

Filed Date: 8/13/21.

Accession Number: 20210813-5148.

Comment Date: 5 p.m. ET 9/3/21.

Docket Numbers: ER21-1934-002.

Applicants: Northern States Power Company, a Minnesota corporation.

Description: Tariff Amendment: CAPX2020-Fargo-OMA-307-Supplemental Filing 0.1.2 to be effective 10/12/2021.

Filed Date: 8/13/21.

Accession Number: 20210813-5135.

Comment Date: 5 p.m. ET 9/3/21.

Docket Numbers: ER21-2670-000.

Applicants: PJM Interconnection, L.L.C.

Description: § 205(d) Rate Filing: Original ISA, SA No. 6125 and Original ICSA, SA No. 6126; Queue No. AD2-134 to be effective 7/16/2021.

Filed Date: 8/12/21.

Accession Number: 20210812-5137.

Comment Date: 5 p.m. ET 9/2/21.

Docket Numbers: ER21-2672-000.

Applicants: New York Transco, LLC, New York Independent System Operator, Inc.

Description: § 205(d) Rate Filing: New York Transco, LLC submits tariff filing per 35.13(a)(2)(iii: 205 EPCA among Transco, ADM Milling and NYISO SA No. 2643 to be effective 7/28/2021.

Filed Date: 8/13/21.

Accession Number: 20210813-5125.

Comment Date: 5 p.m. ET 9/3/21.

Docket Numbers: ER21-2673-000.

Applicants: PJM Interconnection, L.L.C.

Description: § 205(d) Rate Filing: Original WMPA 6159; Queue No. AG1-148 to be effective 7/14/2021.

Filed Date: 8/13/21.

Accession Number: 20210813-5126.

Comment Date: 5 p.m. ET 9/3/21.

Docket Numbers: ER21-2674-000.

Applicants: Borderlands Wind, LLC.

Description: Baseline eTariff Filing: Borderlands Wind, LLC Application for Market-Based Rate Authorization to be effective 10/12/2021.

Filed Date: 8/13/21.

Accession Number: 20210813-5138.

Comment Date: 5 p.m. ET 9/3/21.

Docket Numbers: ER21-2675-000.

Applicants: Southwest Power Pool, Inc.

Description: § 205(d) Rate Filing: 3285R4 AEP Energy Partners, Inc. NITSA and NOA Cancellation to be effective 7/1/2021.

Filed Date: 8/13/21.

Accession Number: 20210813-5140.

Comment Date: 5 p.m. ET 9/3/21.

Docket Numbers: ER21-2676-000.

Applicants: Southwest Power Pool, Inc.

Description: Compliance filing: Overlapping Congestion Compliance Filing in Response to Order in EL17-89 to be effective 3/31/2022.

Filed Date: 8/13/21.

Accession Number: 20210813-5144.

Comment Date: 5 p.m. ET 9/3/21.

Docket Numbers: ER21-2677-000.

Applicants: Midcontinent Independent System Operator, Inc.

Description: Compliance filing: 2021-08-13_MISO and SPP Compliance filing re Pseudo-Tie to be effective 3/31/2022.

Filed Date: 8/13/21.

Accession Number: 20210813-5145.

Comment Date: 5 p.m. ET 9/3/21.

Docket Numbers: ER21-669-004.

Applicants: Morongo Transmission LLC.

Description: Compliance filing: Amended Compliance Filing to be effective 5/15/2021.

Filed Date: 8/12/21.

Accession Number: 20210812-5144.

Comment Date: 5 p.m. ET 9/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 13, 2021.
Debbie-Anne A. Reese,
Deputy Secretary.

[FR Doc. 2021-17797 Filed 8-18-21; 8:45 am]

BILLING CODE 6717-01-P